DEPARTMENT OF HOMELAND SECURITY

U.S. Customs and Border Protection

[Docket No. USCBP-2010-0033]

Utilization of Global Entry Kiosks by NEXUS and SENTRI Participants

AGENCY: U.S. Customs and Border Protection, Department of Homeland Security.

ACTION: General notice and request for comments.

SUMMARY: U.S. Customs and Border Protection (CBP) operates several international trusted traveler programs to provide expedited entry into the United States at designated ports of entry for pre-approved travelers. Through the utilization of automated kiosks, the Global Entry pilot program allows CBP to expedite clearance of pre-approved, low-risk air travelers arriving in the United States. In this notice, CBP is announcing that it is expanding two other trusted traveler programs, NEXUS and the Secure Electronic Network for Travelers Rapid Inspection (SENTRI), to permit participants of these programs currently in good standing to utilize Global Entry kiosks as part of their NEXUS or SENTRI membership. CBP also is describing the terms and conditions for such use. NEXUS is a program jointly administered by the United States and Canada that allows certain pre-approved, low-risk travelers expedited processing for travel between the United States and Canada. The SENTRI trusted traveler program allows certain pre-approved, low-risk travelers expedited entry at specified land border ports along the U.S.-Mexico border.

DATES: Effective Dates: Eligible NEXUS or SENTRI participants may begin to utilize the Global Entry kiosks immediately upon notification of eligibility from CBP. Comments concerning this notice and all aspects of the announced Global Entry pilot may be submitted throughout the duration of the pilot.

ADDRESSES: You may submit comments, identified by “USCBP-2010-0033,” by one of the following methods:

• Federal eRulemaking Portal: http://www.regulations.gov. Follow the instructions for submitting comments.

• Mail: Border Security Regulations Branch, Regulations and Rulings, Office of International Trade, U.S. Customs and Border Protection, Mint Annex, 799 9th Street, NW., Washington, DC 20229.

Instructions: All submissions received must include the agency name, document title, and docket number (USCBP-2010-0033) for this notice. All comments received will be posted without change to http://www.regulations.gov, including any personal information provided.

Docket: For access to the docket to read background documents or comments received go to http://www.regulations.gov. Submitted comments may also be inspected during regular business days between the hours of 9 a.m. and 4:30 p.m. at the Office of Regulations and Rulings, Office of International Trade, U.S. Customs and Border Protection, 799 9th Street, NW., 5th Floor, Washington, DC. Arrangements to inspect submitted comments should be made in advance by calling Mr. Joseph Clark at (202) 325-0118.

Applications for NEXUS, SENTRI and the Global Entry pilot are available through the Global Online Enrollment System (GOES) via the GOES Web site, https://goes-app.cbp.dhs.gov.

FOR FURTHER INFORMATION CONTACT: Larry Panetta, Office of Field Operations, (202) 344-1253.

SUPPLEMENTARY INFORMATION:

Background

CBP operates several voluntary trusted traveler programs to provide expedited travel for certain pre-approved travelers. While each program caters to a different set of travelers based on the program's unique eligibility criteria, any applicant to a trusted traveler program undergoes the same CBP pre-screening process. The three trusted traveler programs relevant to this document are described below.

NEXUS Trusted Traveler Program

NEXUS is a joint trusted traveler program between the United States and Canada. It was established in 2002 as part of the U.S.-Canada Shared Border Accord. NEXUS allows pre-approved, low-risk travelers expedited processing for travel between the United States and Canada at dedicated processing lanes at designated northern border ports of entry, at NEXUS kiosks at U.S. pre-clearance airports in Canada, and at marine reporting locations. An applicant may qualify to participate in NEXUS if he or she is a citizen or lawful permanent resident of the United States or Canada and voluntarily undergoes a thorough background check by U.S. and Canadian authorities against criminal, law enforcement, customs, immigration, and terrorist databases, a 10-fingerprint law enforcement check and a personal interview with a CBP officer. An applicant is ineligible to participate in NEXUS if inadmissible to the United States or Canada under either U.S. or Canadian immigration law. Any one of the following risk factors may disqualify an individual from NEXUS participation:

• The individual provides false or incomplete information on his or her application;

• The individual has been convicted of a criminal offense in any country;

• The individual is a subject of an ongoing investigation by any federal, state or local law enforcement agency in any country;

• The individual has been found to have violated any customs, agriculture, or immigration regulation or laws in any country;

• The individual is inadmissible to the United States or Canada under applicable immigration laws or regulations, including applicants with approved waivers of inadmissibility or parole documentation;

• The individual does not intend to lawfully reside in either Canada or the United States for the term of his or her NEXUS membership; or

• The individual cannot satisfy CBP of his or her low-risk status or meet other NEXUS program requirements.

To participate in NEXUS, both the United States and Canada must approve the individual's application. Denial of an application by either country will keep an applicant from participating in the NEXUS program. Applicants may apply on-line via the CBP GOES Web site, https://goes-app.cbp.dhs.gov, or on paper by mailing the application to Canada Border Services Agency. All qualified applicants are required to travel to a NEXUS Enrollment Center for an interview. If approved to participate in NEXUS, the individual will receive a membership identification card to use when entering Canada or the United States at all designated NEXUS air, land and marine ports of entry. Additional details regarding the NEXUS trusted traveler program can be found at http://www.nexus.gov.

SENTRI Trusted Traveler Program

CBP operates the Port Passenger Accelerated Service System (PORTPASS), a legacy system of the former Immigration and Naturalization Service, which identifies certain ports of entry as providing access to the United States for identified low-risk border crossers. The system is described in detail in 8 CFR 235.7. One PORTPASS program is the Secure Electronic Network for Travelers Rapid Inspection (SENTRI). SENTRI currently allows expedited entry at specified land border ports along the U.S.-Mexico border for pre-approved, low-risk travelers. All applicants must voluntarily undergo a thorough background check against criminal, law enforcement, customs, immigration, and terrorist databases, a 10-fingerprint law enforcement check and a personal interview with a CBP officer. Any one of the following risk factors may disqualify an individual from SENTRI participation:

• The individual provides false or incomplete information on his or her application;

• The individual has been convicted of a criminal offense or has pending criminal charges, including outstanding warrants;

• The individual has been found to have violated any customs, agriculture, or immigration regulation or laws in any country;

• The individual is a subject of an ongoing investigation by any federal, state or local law enforcement agency in any country;

• The individual is inadmissible to the United States under applicable immigration laws or regulations, including applicants with approved waivers of inadmissibility or parole documentation;

• The individual cannot satisfy CBP of his or her low-risk status or meet other program requirements.

Applicants may apply for SENTRI on-line via the CBP GOES Web site. Once the individual's application is approved by CBP, the applicant is issued a Radio Frequency Identification Card (RFID) that identifies his or her record and status in the CBP database upon arrival at the U.S. port of entry. A decal is also issued to the applicant's vehicle or motorcycle. Additional details regarding the SENTRI trusted traveler program can be found at http://www.sentri.gov.

Global Entry Trusted Traveler Pilot Program

In a notice published in the Federal Register on April 11, 2008 (73 FR 19861), CBP announced an international trusted traveler pilot program, currently referred to as Global Entry, which allows for the expedited clearance of pre-approved, low-risk travelers into the United States. The Global Entry pilot program permits pilot participants expedited entry into the United States at any of the designated airport locations by using automated kiosks located in the Federal Inspection Services (FIS) area of each airport.

The Global Entry pilot is currently operational at the following twenty airports: John F. Kennedy International Airport, Jamaica, New York, (JFK); George Bush Intercontinental Airport, Houston, Texas (IAH); Washington Dulles International Airport, Sterling, Virginia (IAD); Los Angeles International Airport, Los Angeles, California (LAX); Hartsfield-Jackson Atlanta International Airport, Atlanta, Georgia (ATL); Chicago O'Hare International Airport, Chicago, Illinois (ORD); Miami International Airport, Miami, Florida (MIA), Newark Liberty International Airport, Newark, New Jersey (EWR); San Francisco International Airport, San Francisco, California (SFO); Orlando International Airport, Orlando, Florida (MCO); Detroit Metropolitan Wayne County Airport, Romulus, Michigan (DTW); Dallas Fort Worth International Airport, Dallas, Texas (DFW); Honolulu International Airport, Honolulu, Hawaii (HNL); Boston-Logan International Airport, Boston, Massachusetts (BOS); Las Vegas-McCarran International Airport, Las Vegas, Nevada (LAS); Sanford-Orlando International Airport, Sanford, Florida (SFB); Seattle-Tacoma International Airport-SEATAC, Seattle, Washington (SEA); Philadelphia International Airport, Philadelphia, Pennsylvania (PHL); San Juan-Luis Munos Marin International Airport, San Juan, Puerto Rico (SJU) and Ft. Lauderdale Hollywood International Airport, Fort Lauderdale, Florida (FLL).

Applicants may apply for the Global Entry pilot via the CBP GOES Web site. Participation is limited to U.S. citizens, U.S. nationals, U.S. lawful permanent residents (LPRs), citizens of the Netherlands who participate in Privium through the FLUX Arrangement and, as of December 29, 2010, Mexican nationals.¹ Global Entry uses fingerprint biometrics technology to verify a participant's identity and confirm his or her status as a participant. For a detailed description of the Global Entry pilot program, including eligibility criteria, please refer to the April 11, 2008 Federal Register notice, 73 FR 19861; the May 27, 2008 Federal Register notice, 73 FR 30416; the August 13, 2008 Federal Register notice, 73 FR 47204; the April 23, 2009 Federal Register notice, 74 FR 18586; and the August 10, 2009 Federal Register notice, 74 FR 39965.

¹ On December 29, 2010, CBP announced by a separate notice published in the Federal Register that, pursuant to a Joint Declaration between the U.S. Department of Homeland Security and the Secretariat of Governance of the United Mexican States, Mexican nationals are eligible to apply for participation in the Global Entry pilot program.

Notice of Proposed Rulemaking To Establish Global Entry as a Permanent Program

In a Notice of Proposed Rulemaking (NPRM), published in the Federal Register on November 19, 2009 (74 FR 59932), CBP proposed establishing Global Entry as a permanent voluntary international trusted traveler program which would operate in a manner similar to the Global Entry pilot program. The comment period has closed and CBP is in the process of analyzing the comments. As provided in the NPRM, current participants in the Global Entry pilot program would be automatically enrolled in Global Entry once the permanent Global Entry program is finalized. Although it is projected that the Global Entry program will eventually operate at all major U.S. international airports, at the start of the program, it is anticipated that its operation would initially be limited to the airports participating in the pilot program.

Expanded Utilization of Global Entry Kiosks

Section 7208(k) of the Intelligence Reform and Terrorism Prevention Act of 2004 (IRTPA), 118 Stat. 3638, as amended by section 565 of the Consolidated Appropriations Act, 2008, 121 Stat. 1844, codified at 8 U.S.C. 1365b, requires the Secretary of Homeland Security to create a program to expedite the screening and processing of pre-approved, low-risk air travelers into the United States. Under the IRTPA, expediting the travel of previously screened and known travelers across the borders of the United States should be a high priority. See 8 U.S.C. 1365b(k)(1)(A).

Although the Global Entry kiosks were initially set up for the sole use of Global Entry participants, CBP intends to eventually allow participants in other CBP trusted traveler programs use of the Global Entry kiosks as a benefit of membership in those other trusted traveler programs. This expanded use of the kiosks will expedite the travel of participants of the other trusted traveler programs at more border crossings in the United States. It will also allow officers to better focus on identifying terrorists and other high risk travelers attempting to enter the United States. This document announces that eligible participants in NEXUS and SENTRI may use the Global Entry kiosks and the terms and conditions for such use.

Current NEXUS Participants May Use Global Entry Kiosks

Terms and Conditions

A NEXUS participant who is in good standing in the NEXUS trusted traveler program will be eligible to utilize the Global Entry kiosks as a benefit of his or her NEXUS membership provided that he or she meets the age restrictions of the Global Entry pilot program (14 years of age or older) or the Global Entry permanent program once it is established. A NEXUS participant will only have access to the Global Entry kiosks for the amount of time remaining on his or her NEXUS membership. However, access to the Global Entry kiosks would continue for the full period of the NEXUS membership upon approval of the renewed NEXUS membership.

A NEXUS participant will receive an email from CBP, provided that an email address is supplied in his or her GOES account, informing the participant to log into his or her GOES account to confirm eligibility to use the Global Entry kiosks. CBP will also notify NEXUS participants of their eligibility by posting messages to their GOES accounts, mailing post cards to participants' mailing addresses, and by updating the Trusted Traveler Web sites. Any participant who needs further information as to whether he or she qualifies for the additional benefits, may call any Trusted Traveler enrollment center (phone numbers are provided at http://www.globalentry.gov). The eligibility notification will tell the participant whether or not the individual may immediately begin utilizing the Global Entry kiosks. If the individual is notified that he or she is not eligible to immediately begin utilizing the Global Entry kiosks, then the participant will need to contact the Enrollment Center to provide the missing information (fingerprints or passport). Once the NEXUS participant's complete information is on file, he or she may immediately begin using the Global Entry kiosks.

Use of the Global Entry kiosks is voluntary. Thus, providing additional information requested by CBP is voluntary, although it will be required in order to utilize the Global Entry kiosks. If a NEXUS participant elects not to provide the additional information, his or her status in the NEXUS program will remain unchanged.

Current SENTRI Participants Are Eligible To Use Global Entry Kiosks

Terms and Conditions

Mexican nationals, U.S. citizens and U.S. LPRs who are already participants in good standing in the SENTRI trusted traveler program and who meet the age restrictions of the Global Entry pilot program (14 years of age or older) or the age restrictions of the Global Entry permanent program once it is established, may utilize the Global Entry kiosks as a benefit of SENTRI membership if they follow the procedures described below. A Mexican national who is a SENTRI participant may utilize the Global Entry kiosks provided he or she successfully completes a thorough risk assessment by the Mexican government. A qualifying SENTRI participant will have access to Global Entry kiosks for the amount of time remaining on his or her SENTRI membership. However, access to the Global Entry kiosks would continue for the full period of the SENTRI membership upon approval of the renewed SENTRI membership.

A SENTRI participant will receive an email from CBP, provided that an email address is supplied in his or her GOES account, informing the participant to log in to his or her GOES account to confirm eligibility to use the Global Entry kiosks. CBP will also notify SENTRI participants of their eligibility by posting messages to their GOES accounts, mailing post cards to participants' mailing addresses, and by updating the Trusted Traveler Web sites. Any participant who needs further information as to whether he or she qualifies for the additional benefits, may call any Trusted Traveler enrollment center (phone numbers are provided at http://www.globalentry.gov). Before a SENTRI participant who is a Mexican national may be qualified to utilize the Global Entry kiosks he or she must indicate his or her wish to use the Global Entry kiosks on the GOES Web site by checking the relevant box. By checking the box, the person authorizes the U.S. government to release all relevant information to the Mexican government for the purpose of conducting a thorough risk assessment.

The eligibility notification will tell the participant whether or not the individual may immediately begin utilizing the Global Entry kiosks. If the individual is notified that he or she is not eligible to immediately begin utilizing the Global Entry kiosks, then the participant will need to contact the Enrollment Center to provide the missing information (fingerprints or passport). Once the SENTRI participant's complete information is on file, he or she may immediately begin using the Global Entry kiosks.

Use of the Global Entry kiosks is voluntary. Thus, providing the additional information to CBP is voluntary, although it will be required in order to use the Global Entry kiosks. If a SENTRI participant elects not to provide the additional information, his or her status in the SENTRI program will remain unchanged.

Operations

A NEXUS or qualified SENTRI participant does not have to wait in the regular passport control primary inspection line. After arriving at the FIS area, the participant would proceed directly to the Global Entry kiosks. After arriving at the kiosks, the NEXUS or qualified SENTRI participant will utilize the Global Entry kiosk through the same procedures as a Global Entry participant by inserting either a machine-readable passport or a machine-readable U.S. permanent resident card into the document reader. Machine readable passports and U.S. permanent resident cards are used for Global Entry kiosk transactions because, unlike NEXUS and SENTRI, Global Entry does not utilize membership cards. On-screen instructions will guide the participant to provide fingerprints electronically. These fingerprints are compared with the fingerprint biometrics on file to validate identity and confirm that the individual is a member of the program. The participant is also prompted to look at the camera for a digital photograph and to respond to several customs declaration questions by use of a touch-screen.

When the procedures at the kiosk have been successfully completed, the participant is issued a transaction receipt. This receipt must be provided along with the passport or permanent resident card to the CBP officer at the exit control area who will examine and inspect these documents. CBP officers stationed in booths next to the kiosk lanes also oversee activities at the kiosk.

Declarations

When using the Global Entry kiosks, NEXUS and qualified SENTRI participants are required under 19 CFR 148.11 to declare all articles being brought into the U.S. If a NEXUS or qualified SENTRI participant declares any of the following, the kiosk redirects that user to the head of the line at the nearest open passport control primary inspection station:

(a) Commercial merchandise or commercial samples, or items that exceed the applicable personal exemption amount;

(b) More than $10,000 in currency or other monetary instruments (checks, money orders, etc.), or foreign equivalent in any form; or

(c) Restricted/prohibited goods, such as agricultural products, firearms, mace, pepper spray, endangered animals, birds, controlled substances, fireworks, Cuban goods, and plants.

NEXUS or qualified SENTRI participants may also be subject to further examination and inspection as determined by CBP officers at any time during the arrival process.

For further details about the relevant airport procedures, please refer to the April 11, 2008 Federal Register notice, 73 FR 19861.

All other aspects of the NEXUS and SENTRI programs and the Global Entry pilot program (as described in the previous Global Entry pilot notices) are still in effect.

Dated: December 23, 2010.
Thomas S. Winkowski,
Assistant Commissioner, Office of Field Operations.

[FR Doc. 2010-32829 Filed 12-28-10; 8:45 am]

BILLING CODE 9111-14-P